DEPARTMENT OF LABOR

Office of the Secretary

Submission for OMB Review; Comment Request

August 22, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for ESA, Office of Management and Budget, Room 10235, Washington, DC 20503 ((202) 395-7316) within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Application of the Employee Polygraph Protection Act.

OMB Number: 1215-0170.

Affected Public: Business or other for-profit; Individuals or households; and Not-for-profit institutions.

Frequency: On occasion.

Number of Respondents: 328,000.

Number of Annual Responses: 328,000.

Estimated Time Per Response: Varies from 1 minute to prepare written polygraph notices to 30 minutes for on-going investigations.

Total Burden Hours: 82,406.

Total Annualized Capital/Startup Costs: $0.

Total Annual Costs (operating/maintaining systems or purchasing services): $0.

Description: The Employee Polygraph Protection Act of 1998 (EPPA) was signed into law June 27, 1988, and became effective December 27, 1988. EPPA prohibits most private employers (Federal, State and local government employers are exempted from the Act) from using any lie detector tests either for pre-employment screening or during the course of employment. The law contains several limited exemptions which authorize polygraph tests under certain conditions, including: (1) The testing of employees who are reasonably suspected of involvement in a workplace incident that results in economic lost or injury to the employer's business; (2) the testing by the Federal Government of experts, consultants, or employees of Federal contractors engaged in national security intelligence or counterintelligence functions; (3) the testing of some prospective employees of private armored car, security alarm, and security guard firms; and (4) the testing of some current and prospective employees in firms authorized to manufacture, distribute, or dispense controlled substances. Employers who violate any of the Act's provisions may be assessed civil money penalties up to $10,000. The information collections contained in these regulations are necessary to insure that individuals subjected to polygraph testing are afforded the rights and protections contained in the EPPA. Failure to collect the information would make it extremely difficult for the Wage and Hour Division of the Department of Labor to enforce the provisions of the Act.

Ira L. Mills,
Departmental Clearance Officer.

[FR Doc. 02-22692 Filed 9-5-02; 8:45 am]

BILLING CODE 4510-27-M